DEPARTMENT OF COMMERCE

Bureau of Industry and Security

15 CFR Parts 740, 742, 743, 772, and 774

[Docket No. 050607153-5153-01]

RIN 0694-AD41

December 2004 Wassenaar Arrangement Plenary Agreement Implementation: Categories 1, 2, 3, 4, 5 Part I (Telecommunications), 6, 7, 8, and 9 of the Commerce Control List; Wassenaar Reporting Requirements; Definitions; and Certain New or Expanded Export Controls

AGENCY: Bureau of Industry and Security, Commerce.

ACTION: Final rule; correction.

SUMMARY: On Friday, July 15, 2005, the Bureau of Industry and Security published a final rule that amended the Export Administration Regulations (EAR) to implement the agreement reached at the December 2004 plenary meeting of the Wassenaar Arrangement on Export Controls for Conventional Arms and Dual-Use Goods and Technologies. The July 15 final rule contained an inadvertent typographical error in the amendatory language for Export Control Classification Number 3A002, which controls general purpose electronic equipment. This document corrects that error. This rule also corrects a statement of the license requirements for deemed export license applications found in the Background section of the July 15 final rule.

DATES: This rule is effective July 26, 2005.

FOR FURTHER INFORMATION CONTACT: For questions of a general nature, contact Sheila Quarterman, Regulatory Policy Division, Office of Exporter Services, Bureau of Industry and Security at (202) 482-2440 or e-mail squarter@bis.doc.gov.

For questions of a technical nature contact:

Category 1: Bob Teer 202-482-4749.

Category 2: George Loh 202-482-3570.

Category 3: Brian Baker 202-482-5534.

Category 4 and 5 part 1: Joe Young 202-482-4197.

Category 5 part 2: Norm La Croix 202-482-4439.

Category 6: Chris Costanzo (night vision) 202-482-0718 or Wayne Hovis (lasers) 202-482-1837.

Categories 7 and 8 : Dan Squire 202-482-3710.

Categories 8 and 9: Gene Christensen 202-482-2984.

SUPPLEMENTARY INFORMATION:

Background

This document corrects two errors contained in the Bureau of Industry and Security (BIS) final rule published in the Federal Register on July 15, 2005 (70 FR 41094). The July 15 final rule amended the Export Administration Regulations (EAR) to implement the agreement reached at the December 2004 plenary meeting of the Wassenaar Arrangement on Export Controls for Conventional Arms and Dual-Use Goods and Technologies (Wassenaar Arrangement). Specifically, the July 15 final rule made the necessary changes to the Commerce Control List (CCL), definitions of terms used in the Export Administration Regulations (EAR), and Wassenaar reporting requirements to implement Wassenaar List revisions that were agreed upon in the December 2004 Wassenaar Arrangement Plenary Meeting. In addition, the rule adds Slovenia to the list of Wassenaar member countries in the EAR. The rule also added or expanded unilateral U.S. controls on certain items consistent with the amendments made to implement the Wassenaar Arrangement's decisions.

This document corrects an inadvertent typographical error contained in Export Control Classification Number (ECCN) 3A002 (General purpose electronic equipment, as follows (see List of Items Controlled)) on the CCL. Specifically, this document corrects paragraph 3A002.b by removing a comma that appears between the terms “Frequency synthesizer” and “electronic assemblies”. The removal of the comma corrects paragraph 3A002.b in conformity with language agreed upon in the December 2004 Wassenaar Arrangement Plenary Meeting.

This document also corrects a statement of the license requirements for deemed export license applications found in the Background section of the July 15 final rule. Specifically, the Background section of the July 15 final rule included an explanation of amendments to Section 740.7 (License Exception Computers (CTP)) of the EAR. That explanation included the following statement, “Applications for foreign nationals with temporary or permanent residence status of a third country (i.e., non-U.S. and a temporary or permanent residence status other than a foreign national's country of origin) should be based on the foreign national's country of citizenship.” This is not correctly stated; such license applications should be based on the most recently established residency.

Rulemaking Requirements

1. This final rule has been determined to be not significant for purposes of E.O. 12866.

2. Notwithstanding any other provision of law, no person is required to respond to, nor shall any person be subject to a penalty for failure to comply with a collection of information, subject to the requirements of the Paperwork Reduction Act of 1995 (44 U.S.C. 3501 et seq.) (PRA), unless that collection of information displays a currently valid Office of Management and Budget (OMB) Control Number. This rule involves two collections of information subject to the PRA. One of the collections has been approved by OMB under control number 0694-0088, “Multi-Purpose Application,” and carries a burden hour estimate of 58 minutes for a manual or electronic submission. The other of the collections has been approved by OMB under control number 0694-0106, “Reporting and Recordkeeping Requirements under the Wassenaar Arrangement,” and carries a burden hour estimate of 21 minutes for a manual or electronic submission. Send comments regarding these burden estimates or any other aspect of these collections of information, including suggestions for reducing the burden, to OMB Desk Officer, New Executive Office Building, Washington, DC 20503; and to the Office of Administration, Bureau of Industry and Security, Department of Commerce, 14th and Pennsylvania Avenue, NW., Room 6883, Washington, DC 20230.

3. This rule does not contain policies with Federalism implications as that term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Sheila Quarterman, Office of Exporter Services, Bureau of Industry and Security, Department of Commerce, PO Box 273, Washington, DC 20044.

List of Subjects

15 CFR Part 774

Exports, Foreign trade, Reporting and recordkeeping requirements.

Accordingly, part 774 of the Export Administration Regulations 915 CFR parts 730-799) is amended to read as follows:

PART 774—[CORRECTED]

1. The authority citation for 15 CFR part 774 continues to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 6, 2004, 69 FR 48763, 3 CFR, 2004 Comp., p. 284.

SUPPLEMENT NO. 1 TO PART 774—[AMENDED]

2. In Supplement No. 1 to Part 774 (the Commerce Control List), Category 3—Electronics, Export Control Classification Number (ECCN) 3A002 is amended by revising the “items” paragraph of the List of Items Controlled section, to read as follows:

3A002 General purpose electronic equipment, as follows (see List of Items Controlled).

* * * * *

List of Items Controlled

Unit: * * *

Related Controls: * * *

Related Definitions: * * *

Items:

a. Recording equipment, as follows, and specially designed test tape therefor:

a.1. Analog instrumentation magnetic tape recorders, including those permitting the recording of digital signals (e.g., using a high density digital recording (HDDR) module), having any of the following:

a.1.a. A bandwidth exceeding 4 MHz per electronic channel or track;

a.1.b. A bandwidth exceeding 2 MHz per electronic channel or track and having more than 42 tracks; or

a.1.c. A time displacement (base) error, measured in accordance with applicable IRIG or EIA documents, of less than “ 0.1 :s;

Note: Analog magnetic tape recorders specially designed for civilian video purposes are not considered to be instrumentation tape recorders.

a.2. Digital video magnetic tape recorders having a maximum digital interface transfer rate exceeding 360 Mbit/s;

Note: 3A002.a.2 does not control digital video magnetic tape recorders specially designed for television recording using a signal format, which may include a compressed signal format, standardized or recommended by the ITU, the IEC, the SMPTE, the EBU, the ETSI, or the IEEE for civil television applications.

a.3. Digital instrumentation magnetic tape data recorders employing helical scan techniques or fixed head techniques, having any of the following:

a.3.a. A maximum digital interface transfer rate exceeding 175 Mbit/s; or

a.3.b. Being “space qualified”;

Note: 3A002.a.3 does not control analog magnetic tape recorders equipped with HDDR conversion electronics and configured to record only digital data.

a.4. Equipment, having a maximum digital interface transfer rate exceeding 175 Mbit/s, designed to convert digital video magnetic tape recorders for use as digital instrumentation data recorders;

a.5. Waveform digitizers and transient recorders having all of the following: N.B.: See also 3A292.

a.5.a. Digitizing rates equal to or more than 200 million samples per second and a resolution of 10 bits or more; and

a.5.b. A continuous throughput of 2 Gbit/s or more;

Technical Note: For those instruments with a parallel bus architecture, the continuous throughput rate is the highest word rate multiplied by the number of bits in a word. Continuous throughput is the fastest data rate the instrument can output to mass storage without the loss of any information while sustaining the sampling rate and analog-to-digital conversion.

a.6. Digital instrumentation data recorders, using magnetic disk storage technique, having all of the following:

a.6.a. Digitizing rate equal to or more than 100 million samples per second and a resolution of 8 bits or more; and

a.6.b. A continuous throughput of 1 Gbit/s or more;

b. “Frequency synthesizer” “electronic assemblies” having a “frequency switching time” from one selected frequency to another of less than 1 ms;

c. Radio frequency “signal analyzers”, as follows:

c.1. “Signal analyzers” capable of analyzing any frequencies exceeding 31.8 GHz but not exceeding 37.5 Ghz and having a 3 dB resolution bandwidth (RBW) exceeding 10 MHz;

c.2. “Signal analyzers” capable of analyzing frequencies exceeding 43.5 Ghz;

c.3. “Dynamic signal analyzers” having a “real-time bandwidth” exceeding 500 kHz;

Note: 3A002.c.3 does not control those “dynamic signal analyzers” using only constant percentage bandwidth filters (also known as octave or fractional octave filters).

d. Frequency synthesized signal generators producing output frequencies, the accuracy and short term and long term stability of which are controlled, derived from or disciplined by the internal master frequency, and having any of the following:

d.1. A maximum synthesized frequency exceeding 31.8 GHz, but not exceeding 43.5 GHz and rated to generate a pulse duration of less than 100 ns;

d.2. A maximum synthesized frequency exceeding 43.5 GHz;

d.3. A “frequency switching time” from one selected frequency to another of less than 1 ms; or

d.4. A single sideband (SSB) phase noise better than -(126 + 20 log10F−20 log10f) in dBc/Hz, where F is the off-set from the operating frequency in Hz and f is the operating frequency in MHz;

Technical Note: For the purposes of 3A002.d.1., ‘pulse duration’ is defined as the time interval between the leading edge of the pulse achieving 90% of the peak and the trailing edge of the pulse achieving 10% of the peak.

Note: 3A002.d does not control equipment in which the output frequency is either produced by the addition or subtraction of two or more crystal oscillator frequencies, or by an addition or subtraction followed by a multiplication of the result.

e. Network analyzers with a maximum operating frequency exceeding 43.5 GHz;

f. Microwave test receivers having all of the following:

f.1. A maximum operating frequency exceeding 43.5 GHz; and

f.2. Being capable of measuring amplitude and phase simultaneously;

g. Atomic frequency standards having any of the following:

g.1. Long-term stability (aging) less (better) than 1 × 10-11/month; or

g.2. Being “space qualified”.

Note: 3A002.g.1 does not control non-“space qualified” rubidium standards.

Dated: July 21, 2005.
Eileen Albanese,
Director, Office of Exporter Services.

[FR Doc. 05-14745 Filed 7-25-05; 8:45 am]

BILLING CODE 3510-33-P